DEPARTMENT OF THE INTERIOR

Bureau of Land Management

[LLNVW00000.L7122000.EX0000. LVTFF1906890.19X.MO#4500141833]

Notice of Intent To Prepare a Draft Environmental Impact Statement and Resource Management Plan Amendment, for the Lithium Nevada Corp., Thacker Pass Project Proposed Plan of Operations and Reclamation Plan Permit Application, Humboldt County, Nevada

AGENCY: Bureau of Land Management, Interior.

ACTION: Notice of intent.

SUMMARY: In compliance with the National Environmental Policy Act of 1969, as amended (NEPA), and the Federal Land Policy and Management Act of 1976, as amended, the Bureau of Land Management (BLM) Humboldt River Field Office, Winnemucca, Nevada intends to prepare an Environmental Impact Statement (EIS), and Land Use Plan Amendment to the current Resource Management Plan (RMP), to analyze the potential impacts of approving the Lithium Nevada Corp. (LNC), Thacker Pass Project Proposed Plan of Operations and Reclamation Plan Permit Application (Project) in Humboldt County, Nevada. This notice announces the beginning of the scoping process to solicit public comments and identify issues to be considered in the EIS, and serves to initiate public consultation, as required under the National Historic Preservation Act (NHPA).

DATES: This notice initiates the public scoping process for the EIS. Comments on issues to be considered in the EIS may be submitted in writing until February 20, 2020. The dates and locations of two scoping meetings, one in Orovada and the other in Winnemucca, Nevada, will be announced at least 15 days in advance through local media, newspapers and the BLM website at: https://www.blm.gov/office/winnemucca-district-office. In order to be included in the Draft EIS, all comments must be received prior to the close of the 30-day scoping period or 15 days after the last public meeting, whichever is later. We will provide additional opportunities for public participation upon publication of the Draft EIS.

ADDRESSES: You may submit comments related to the Project by any of the following methods:

• Website: https://bit.ly/2S7rRRt.

• Email: wfoweb@blm.gov, Include Thacker Pass Project EIS Comments in the subject line.

• Fax: (775) 623-1503.

• Mail: 5100 E Winnemucca Boulevard, Winnemucca, NV 89445.

FOR FURTHER INFORMATION CONTACT: For questions about the proposed Project contact Mr. Ken Loda, telephone: (775) 623-1500, address: 5100 East Winnemucca Boulevard, Winnemucca, NV 89445. Contact Mr. Loda to have your name added to our mailing list. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The applicant, LNC, proposes to construct, operate, reclaim, and eventually close an open pit lithium mine, processing operation, and continued exploration activities (the Project) on public lands in northern Humboldt County, Nevada.

LNC has submitted two Plans of Operations (PoO), each of which includes an associated reclamation plan, to develop the Project and to provide BLM with a description of the proposed lithium mining, processing, and exploration operations. The PoOs include measures to be implemented to prevent unnecessary or undue degradation of public lands by operations authorized under the mining laws.

LNC currently has two approved PoOs, one for exploration and one for a specialty clay mine, approved within the area proposed for the new lithium mine. There are 75 acres of exploration disturbance approved under LNCs existing exploration PoO, and 140 acres of existing disturbance approved under their clay mine PoO. The operations proposed under the two new PoOs would involve a project area of about 18,000 acres, with an ultimate disturbance footprint of approximately 5,700 acres. The proposed lithium mine PoO boundary overlaps the existing PoO boundaries.

LNC proposes to develop the Project in two phases (Phase 1 and Phase 2) over the estimated 41-year mine life. Pending LNC receiving the required authorizations and permits for Phase 1 of the Project, pre-stripping would commence in early 2021 and construction in the first quarter of 2021, with mining production and ore processing estimated to commence in late 2022. LNC estimates that it would complete mining, processing and concurrent reclamation activities in 2061, after which reclamation, site closure activities, and post-closure monitoring would occur for a minimum of five years.

The Project would provide employment to approximately 300 workers during the operational phase. The proposed activities and facilities associated with the Project include development of an open pit mine, construction and operation of lithium processing and production facilities, mine facilities to support mining operations, two waste rock storage facilities, a run-of-mine stockpile, a clay tailings filter stack, water supply facilities, two power transmission lines and substations, and various ancillary facilities. Pit dewatering is not expected to be required as part of the Project until 2055, and concurrent backfill of the open pit would occur after sufficient volume has been excavated to initiate direct placement of waste rock. Continued exploration would be conducted under both PoOs. The project would produce lithium carbonate, lithium hydroxide monohydrate, lithium sulfide, lithium metal, and solid-state lithium batteries.

The Project also would include the construction of natural landforms and other design features to mitigate potential impacts to visual resources within the Project area. A Land Use Plan Amendment addressing visual resources would be included with the Project and analyzed in the EIS if visual resource issues cannot be mitigated during the exploration, construction, and operation of the Project to conform with the visual resource management class-2 designation in the current RMP, approved in 2015.

The purpose of the public scoping process is to identify relevant issues that will influence the scope of the environmental analysis, including alternatives, and guide the process for developing the EIS. The BLM has identified some preliminary issues associated with the Project: (a) Dewatering during mining and the formation of a pit lake after completion of mining activities; (b) Potential impacts to streams occupied by Lahontan cutthroat trout, a threatened species under the Endangered Species Act of 1973, as amended; (c) Potential impacts to visual resources; (d) Potential impacts to wildlife habitat; and (e) Potential impacts to cultural resources eligible under the National Register of Historic Places.

The BLM will use and coordinate the NEPA scoping process to help fulfill the public involvement process under the NHPA as provided in 42 CFR 800.2(d)(3). The information about historic and cultural resources within the area potentially affected by the proposed project will assist the BLM in identifying and evaluating impacts to such resources in the context of both NEPA and the NHPA.

The BLM will consult with Native American tribes on a government-to-government basis in accordance with Executive Order 13175 and other policies. Tribal concerns, including impacts on Indian trust assets and potential impacts to cultural resources, will be given due consideration.

Federal, State, and local agencies, along with tribes and other stakeholders that may be interested in or affected by the proposed project that the BLM is evaluating, are invited to participate in the scoping process and, if eligible, may request or be requested by the BLM to participate in the development of the EIS as a cooperating agency. Comments and materials we receive, as well as supporting documentation we use in preparing the EIS, will be available for public inspection during normal business hours at the Winnemucca District Office (see ADDRESSES section, above).

Before including your address, phone number, email address, or other personal identifying information in your comment, you should be aware that your entire comment—including your personal identifying information—may be made publicly available at any time. While you may request in your comment that your personal identifying information be withheld from public review, we cannot guarantee that we will be able to do so.

Authority: 40 CFR 1501.7.

David Kampwerth,
Field Manager, Humboldt River Field Office.

[FR Doc. 2020-00851 Filed 1-17-20; 8:45 am]

BILLING CODE 4310-HC-P